DEPARTMENT OF HOUSING AND URBAN DEVELOPMENT

[Docket No. FR-5486-N-27]

Notice of Submission of Proposed Information Collection to OMB Evaluation of the Veterans Homelessness Prevention Demonstration

AGENCY: Office of Policy Development and Research, HUD.

ACTION: Notice.

SUMMARY: The Department of Housing and Urban Development requests review and approval of the Paperwork Reduction Act requirements for the collection of information required to evaluate the Veterans Homelessness Prevention Demonstration (VHPD). The Department solicits public comments on the proposed collection of information to: (1) Enhance the quality, utility, and clarity of the information to be collected; and (2) minimize the burden of the information collection on those who respond; including through the use of appropriate automated collection techniques or other forms of information technology that will reduce burden.

DATES: Comments Due Date: January 13, 2012.

ADDRESSES: Interested persons are invited to submit comments regarding this proposal. Comments must be received within sixty (60) days from the date of this Notice. Comments should refer to the proposal by name and should be sent to: Reports Liaison Officer, Office of Policy Development and Research, Department of Housing and Urban Development, 451 Seventh Street SW., Room 8230, Washington, DC 20410.

FOR FURTHER INFORMATION CONTACT: Elizabeth Rudd, Ph.D., Department of Housing and Urban Development, Office of Policy Development and Research, 451 7th Street SW., Room 8120, Washington, DC 20410; email Elizabeth.C.Rudd@hud.gov; or telephone (202) 402-7607. This is not a toll-free number.

SUPPLEMENTARY INFORMATION: This Notice informs the public that the U.S. Department of Housing and Urban Development (HUD) will submit to OMB a request for approval to collect information to evaluate the Veterans Homelessness Prevention Demonstration. The FY 2009 budget for HUD included a $10 million set-aside for a demonstration program “to test the effectiveness of strategies to prevent veterans from becoming homeless” (Senate Report No. 110-418). The Senate Report directed HUD to coordinate the demonstration program with the U.S. Department of Veterans Affairs (VA) and the U.S. Department of Labor (DOL). The resulting demonstration program, the Veterans Homelessness Prevention Demonstration (VHPD), is being implemented in five communities. The objectives of the VHPD evaluation are to (1) Examine the most effective ways to identify, reach, and assist veterans who are at-risk of homelessness or are experiencing short-term homelessness; (2) evaluate the extent to which VHPD services and activities meet the needs of veterans experiencing a housing crisis and contribute to their longer-term economic stability and (3) identify barriers to providing prevention services to veterans.

Title of Proposed Notice: Evaluation of the Veterans Homelessness Prevention Demonstration.

Description of Information Collection:

OMB Control Number: XXXX-pending.

Agency Form Numbers: None.

Members of Affected Public: Households and VHPD program staff.

Estimated Total Number of Hours Needed to Prepare the Information Collection Including Number of Respondents, Frequency of Responses, and Hours of Responses:

Form | Respondent sample | Number of respondents | Average time to complete (hours) | Frequency | Total burden (hours)
Baseline Survey (Group 1) | VHPD Households | 250 | 0.42 | 1 | 105
Follow-up Survey (Group 1) | VHPD Households | 250 | 0.42 | 1 | 105
Follow-up Survey (Group 2) | VHPD Households | 500 | 0.42 | 1 | 210
Focus Groups | VHPD clients | 80 | 1.5 | 1 | 120
Key Informant Interviews | VHPD Staff | 120 | 1 | 2 | 240
Site Reconnaissance Phone Interviews | VHPD Staff | 21 | 1 | 1 | 21
Total Burden Hours |  |  |  |  | 801

Authority: The Paperwork Reduction Act of 1995, 44 U.S.C. Chapter 35, as amended.

Dated: November 3, 2011.
Raphael W. Bostic,
Assistant Secretary for Policy Development and Research.

[FR Doc. 2011-29358 Filed 11-10-11; 8:45 am]

BILLING CODE 4210-67-P